ENVIRONMENTAL PROTECTION AGENCY

[FRL-8500-3]

Science Advisory Board Staff Office; Notification of Two Public Teleconferences of the Science Advisory Board Radiation Advisory Committee MARSAME Review Panel

AGENCY: Environmental Protection Agency (EPA).

ACTION: Notice.

SUMMARY: The EPA Science Advisory Board (SAB) Staff Office announces two public teleconferences of the SAB Radiation Advisory Committee (RAC) augmented with additional experts to review the draft document entitled “Multi-Agency Radiation Survey and Assessment of Materials and Equipment (MARSAME) Manual,” December 2006.

DATES: The SAB Radiation Advisory Committee (RAC) MARSAME Review Panel will hold public teleconferences on Friday, December 21, 2007 from 11 a.m. to 2 p.m. (Eastern Standard Time) and Monday, March 10, 2008 from 1 p.m. to 4 p.m. (Eastern Standard Time).

ADDRESSES: The public teleconferences on Friday, December 21, 2007 and Monday, March 10, 2008 will take place via telephone only.

FOR FURTHER INFORMATION CONTACT: Members of the public who wish to obtain the call-in number and access code for the public teleconferences may contact Dr. K. Jack Kooyoomjian, Designated Federal Officer (DFO), by mail at the EPA SAB Staff Office (1400F), U.S. EPA, 1200 Pennsylvania Avenue, NW., Washington, DC 20460; by telephone at (202) 343-9984; by fax at (202) 233-0643; or by e-mail at: kooyoomjian.jack@epa.gov. General information concerning the SAB can be found on the SAB Web Site at: http://www.epa.gov/sab.

Technical Contact: For questions and information concerning the draft MARSAME document, background information, as well as briefing and other background materials provided to the RAC MARSAME Review Panel which are pertinent to the teleconferences in this notice, please contact Dr. Mary E. Clark of the U.S. EPA, ORIA by telephone at: (202) 343-9348, fax at (202) 243-2395, or e-mail at clark.marye@epa.gov.

SUPPLEMENTARY INFORMATION: Background: The EPA's Office of Radiation and Indoor Air (ORIA) on behalf of the Federal agencies participating in the development of the MARSAME Manual (see below) requested the SAB to provide advice on a draft document entitled “Multi-Agency Radiation Survey and Assessment of Materials and Equipment (MARSAME) Manual,” December 2006. MARSAME is a supplement to the “Multi-Agency Radiation Survey and Site Investigation Manual” (MARSSIM, EPA 402-R-970-016, Rev.1, August 2000 and June 2001 update). The SAB Staff Office announced this advisory activity and requested nominations for technical experts to augment the SAB's Radiation Advisory Committee (RAC) in the Federal Register (72 FR 11356; March 13, 2007). The first teleconference of the RAC's MARSAME Review Panel took place on Tuesday, October 9, 2007 and the face-to-face review meeting took place in the Washington, DC area on October 29, 30 and 31, 2007 (72 FR: 54255; September 24, 2007). MARSAME was developed collaboratively by the multi-agency work group (60 FR 12555; March 7, 1995) and provides technical information on approaches for planning, conducting, evaluating, and documenting radiological disposition surveys to determine proper disposition of materials and equipment (M&E). The multi-agency work group which developed the MARSAME manual consists of the U.S. Department of Defense (DOD); the U.S. Department of Energy (DOE); the U.S. Environmental Protection Agency (EPA); and the U.S. Nuclear Regulatory Commission (NRC).

Pursuant to the Federal Advisory Committee Act (FACA), Public Law 92-463, the SAB Staff Office hereby gives notice of two public teleconferences of the SAB Radiation Advisory Committee (RAC) augmented to deal with this subject. The SAB was established by 42 U.S.C. 4365 to provide independent scientific and technical advice, consultation, and recommendations to the EPA Administrator on the technical basis for Agency positions and regulations. The augmented RAC will comply with the provisions of FACA and all appropriate SAB procedural policies.

Purpose of the Teleconferences: The purpose of the teleconferences is to discuss the draft report being prepared by the SAB RAC MARSAME Review Panel in response to the charge questions pertaining to the draft MARSAME Manual, dated December 2006 prepared by the multi-agency work group.

Availability of Meeting Materials: A roster of the RAC MARSAME Review Panel members, and the charge to the SAB's RAC MARSAME Review Panel is posted on the SAB Web Site at: (http://www.epa.gov/sab). The latest draft public report to be discussed, which is currently under preparation, along with the meeting agenda will be posted onto the SAB Web Site prior to the teleconferences. The draft document, “Multi-Agency Radiation Survey and Assessment of Materials and Equipment (MARSAME) Manual,” December 2006 (NUREG-1575, Supp. 1; EPA 402-R-06-002; and DOE/EH-707) is available at: http://63.151.45.33/marsame/system/index.cfm. In addition to the hotlink above, the charge to the RAC's MARSAME Review Panel, and other supplemental information may be found at the SAB Web Site (http://www.sab.gov/sab).

Procedures for Providing Public Input: Interested members of the public may submit relevant written or oral information for the SAB Panel to consider during the advisory process.

Oral Statements: In general, individuals or groups requesting an oral presentation at a public teleconference will be limited to three minutes per speaker with no more than a total of fifteen minutes for all speakers. Interested parties should contact the DFO, contact information provided above, in writing via e-mail seven days prior to the teleconference dates. For the December 21, 2007 teleconference, the deadline is Friday, December 14, 2007. For the March 10, 2008 teleconference, the deadline is Monday, March 3, 2008 to be placed on the public speaker list.

Written Statements: Written statements should be received in the SAB Staff Office seven days prior to the teleconferences. For the Friday, December 21, 2007 teleconference, the deadline is Friday, December 14, 2007; for the March 10, 2008 teleconference, the deadline is Monday, March 3, 2008, so that the information may be made available to the SAB RAC MARSAME Review Panel for their consideration. Written statements should be supplied to the DFO in the following formats: one hard copy with original signature, and one electronic copy via e-mail to kooyoomjian.jack@epa.gov (acceptable file format: Adobe Acrobat, WordPerfect, Word, or Rich Text files in IBM-PC/Windows 98/2000/XP format).

Meeting Accommodations: For information on access or services for individuals with disabilities, please contact the DFO, contact information provided above. To request accommodation of a disability, please contact the DFO, preferably at least 10 days prior to the meeting, to give EPA as much time as possible to process your request.

Dated: November 26, 2007.
Anthony F. Maciorowski,
Deputy Director, EPA Science Advisory Board Staff Office.

[FR Doc. E7-23298 Filed 11-29-07; 8:45 am]

BILLING CODE 6560-50-P